DEPARTMENT OF THE INTERIOR

Bureau of Land Management

[NM-114438; AZA-35058; L51010000 ER0000 LVRWG09G0690 LLNM930000]

Notice of Availability of the Draft Environmental Impact Statement for the SunZia Southwest 500 kV Transmission Line Project in New Mexico and Arizona, and Prospective Draft Land Use Plan Amendments

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Draft Resource Management Plan (Draft RMP) Amendment and a Draft Environmental Impact Statement (Draft EIS) for the SunZia Southwest Transmission Line Project and by this notice is announcing the opening of the comment period.

DATES: To ensure that comments will be considered, the BLM must receive written comments on the Draft RMP Amendment and Draft EIS within 90 days following the date the Environmental Protection Agency publishes its Notice of Availability in the Federal Register. The BLM will announce future meetings or hearings and any other public involvement activities at least 15 days in advance through public notices, media releases, and/or mailings.

ADDRESSES: You may submit comments related to the SunZia Southwest Transmission Line Project by any of the following methods:

• Web site: www.blm.gov/nm/sunzia.

• Email: NMSunZiaProject@blm.gov.

• Mail: Bureau of Land Management, New Mexico State Office, Attention: SunZia Southwest Transmission Project, P.O. Box 27115, Santa Fe, NM 87502-0115.

• Courier or hand delivery: Bureau of Land Management, New Mexico State Office, 301 Dinosaur Trail, Santa Fe, NM 87508-1560.

FOR FURTHER INFORMATION CONTACT: Adrian Garcia, Project Manager, c/o Bureau of Land Management, New Mexico State Office, 301 Dinosaur Trail, Santa Fe, NM 87508-1560, or by telephone at 505-954-2000. Any persons wishing to be added to our mailing list of interested parties may write or call the BLM Project Manager, at the address or phone number above. Persons who use a telecommunications device for the deaf (TTD) may call the Federal Information Relay Service (FIRS) at 1-800-877-8339 to contact the above individuals during normal business hours. The FIRS is available 24 hours a day, 7 days a week, to leave a message or question for the above individual. You will receive a reply during normal business hours.

SUPPLEMENTARY INFORMATION: In September 2008, SunZia Transmission LLC, submitted a right-of-way (ROW) application to the BLM requesting authorization to construct, operate, maintain, and commission two electric transmission lines on public lands. The Applicant's objective for the Project is to improve the reliability and efficiency of the western electrical grid and aid in delivering electrical energy throughout the region. The BLM's purpose and need for the EIS is to respond to the Applicant's ROW application.

On May 29, 2009, the BLM published in the Federal Register (74 FR 25764) a Notice of Intent (NOI) to Prepare an EIS pursuant to NEPA, as required by Federal regulations promulgated for FLPMA found at 43 CFR part 2800. The BLM is the lead Federal agency for the NEPA analysis process and preparation of the EIS. Cooperating agencies include: Arizona Department of Transportation, Arizona State Land Department, Arizona Game and Fish Department, National Park Service, New Mexico Space Authority, New Mexico State Land Office, Holloman Air Force Base, Ft. Bliss (U.S. Army), White Sands Missile Range (U.S. Army), Ft. Huachuca (U.S. Army), U.S. Fish and Wildlife Service (FWS), and the Department of Defense Siting Clearinghouse.

To allow the public an opportunity to review the proposal and Project information, the BLM held public scoping meetings in June 2009 in Eloy, Oracle, Safford, and Willcox, Arizona, and Lordsburg, New Mexico. In July 2009, public scoping meetings were held in Deming, Socorro, Carrizo, and Elephant Butte, New Mexico.

Based on the BLM's evaluation of comments received during the initial scoping period, the study area was expanded to include alternative routes east of the White Sands Missile Range in New Mexico. Three scoping meetings were held in October 2009, in Las Cruces, Chaparral, and Alamogordo, New Mexico.

The Draft EIS analyzes the consequences of granting a ROW to SunZia Transmission, LLC (SunZia or Applicant) for locating two parallel overhead 500 kilovolt (kV) electric transmission lines from the proposed SunZia East substation in Lincoln County, New Mexico, to the existing Pinal Central Substation in Pinal County, Arizona. The proposed SunZia Transmission Project (Project) would include two new, single circuit 500 kV transmission lines located adjacent to one another and would be located on Federal, State, and private lands. One of the 500 kV transmission lines would be constructed and operated as an alternating current (AC) facility transmission line, and SunZia may construct and operate one of the proposed transmission lines as either AC or direct current (DC). The requested ROW width would be about 400 feet, in order to accommodate a separation of 200 feet between the two lines, but could be up to 1,000 feet wide in areas where terrain poses engineering or construction constraints. Engineering studies would determine those requirements as part of the Project. In addition to the SunZia East Substation, three new substations would be constructed and operated at the following intermediate sites: the proposed Midpoint Substation near Deming, New Mexico, in Luna County; the proposed Lordsburg Substation near Lordsburg, New Mexico, in Hidalgo County; and the proposed Willow Substation, near Willcox, Arizona, in Graham County.

The lengths of the varying Project alternative routes considered and evaluated in the Draft EIS range between about 460 miles to 530 miles. The BLM has identified in the Draft EIS a preferred alternative route. The BLM seeks comments on all the alternatives considered in the Draft EIS.

The length of the BLM preferred route would be about 530 miles. It is estimated that approximately 191 miles, or 36 percent, of the ROW for the preferred route would be located on Federal lands in New Mexico and Arizona. Once constructed, the Project would be in operation year-round. In New Mexico, about 137 miles of the BLM preferred route would cross public lands administered by four BLM Field Offices: Las Cruces, Socorro, Rio Puerco, and Roswell. In Arizona, about 54 miles of the BLM preferred route would cross public lands administered by two Field Offices: the Safford and Tucson BLM Field Offices. The BLM's New Mexico State Office has been designated the lead office for this ROW application.

This Project includes prospective amendments of the BLM Socorro RMP, the Mimbres RMP, and possibly the Safford Field Office RMP. By this notice, and the NOI to Prepare an EIS published in May 2009, the BLM is complying with requirements in 43 CFR 1610.2(c). The BLM is integrating the land use planning process with the NEPA analysis process for this Project.

Alternative routes were added to the study area based on the BLM's evaluation of comments received during the second scoping period, which ended on November 27, 2009. These alternative routes were located within Lincoln, Torrance, Valencia, and Socorro Counties in New Mexico and within Pima, Cochise, and Pinal Counties in Arizona. A third set of public meetings was held in April 2010 in Socorro, New Mexico, and Tucson, Arizona.

Issues and potential impacts to specific resources were identified during scoping and in coordinating agency meetings. These issues and potential impacts include:

• Engineering and construction restraints;

• Corridor alignments and alternatives;

• Effects to sedimentation in rivers, soil erosion, and alteration of watersheds;

• Effects to wildlife habitats, migratory birds and waterfowl, other bird species impacts, bighorn sheep, deserts and grasslands, management of invasive plant species, and ensuring effective reclamation;

• Effects to cultural resources and archaeological sites;

• Effects to Native American traditional cultural properties and respected places;

• Effects to visual resources and existing view sheds;

• Conflicts with current land use plans;

• Impacts on wilderness areas, livestock grazing and ranching, property values, off-highway vehicle use, and military use;

• Effects to rural lifestyles, tourism, and socioeconomic conditions; and

• Avoidance of sensitive areas such as wilderness areas, wildlife refuges, national forests, and military airspace.

Alternative routes for the proposed transmission lines were divided into four route groups containing various alternative segments, or subroutes. The BLM has identified in the Draft EIS a preferred alternative route. The BLM seeks comments on the preferred route, all other routes, and the no action alternative, considered in the Draft EIS.

Route Group 1: SunZia East Substation to Midpoint Substation—Consists of Subroutes 1A1, 1A, 1B, 1B1, 1B2, 1B2a, and 1B3.

Subroute 1A1 (228.8 miles), the BLM preferred alternative, proceeds northwest from the proposed SunZia East substation then continues into Torrance County, about 4.3 miles north of the Gran Quivira Unit of the Salinas Pueblo Mission National Monument, and then enters Socorro County, east of the Sevilleta National Wildlife Refuge. Subroute 1A1 crosses the Rio Grande River north of Socorro, and then turns south along an existing transmission line path into Sierra County. The route continues south to the proposed Midpoint Substation, near Deming, New Mexico. The ROW for Subroute 1A1 would parallel about 130 miles of existing utility ROW and crosses about 110 miles of public land administered by the BLM.

Subroutes 1A, 1B, 1B1, 1B2, 1B2a and 1B3 were all considered and evaluated. For discussion of analysis on these routes, refer to the Draft EIS.

Route Group 2: SunZia East Substation to Midpoint Substation—Generally east of White Sands Missile Range and through Ft. Bliss Army Base (Ft. Bliss) within Lincoln, Otero, Doña Ana, and Luna Counties. This group of alternatives was considered during the expanded scoping period of 2010, and then eliminated from detailed study in the Draft EIS because routes under this group of alternatives would require traversing lands under the jurisdiction of Ft. Bliss. Ft. Bliss has indicated that overhead transmission lines through Ft. Bliss-administered lands would have substantial impacts to its military operations and would be incompatible with their military mission.

Route Group 3: Midpoint Substation to Willow-500 kV Substation—Consists of Subroutes 3A1, 3A, and 3B.

Subroute 3A1 (140.3 miles), the BLM preferred alternative, proceeds west from the Midpoint Substation to a point about 9 miles west of the proposed Lordsburg Substation in Hidalgo County, New Mexico. From that point the subroute crosses to the south and continues along a portion of an existing pipeline corridor into Cochise County, Arizona, then northwest to the proposed Willow-500kV substation in Graham County. The ROW for Subroute 3A1 would parallel about 33 miles of existing utility ROW and cross about 66 miles of Federal lands administered by the BLM.

Subroutes 3A and 3B were considered and evaluated. For discussion of analysis on these routes refer to the Draft EIS.

Route Group 4: Willow-500kV Substation to Pinal Central Substation—Consists of Subroutes 4A, 4B, 4C1, 4C2, 4C2a, 4C2b, 4C2c, and 4C3.

The amount of BLM land subject to ROW for the various alternatives in this group would be about 2 miles (Subroute 4C2a or 4C2b) to 15 miles (sub-route 4C2 or 4C2c). Subroute 4C2c (161.2 miles), the BLM preferred alternative, follows an existing 345 kV transmission line corridor from the Willow 500 kV Substation southwest, crossing the San Pedro River about 12 miles north of Benson, Arizona. The route then continues northwesterly, crossing the northeast corner of Pima County, then follows a westerly path through Pinal County, north of Oracle, Arizona toward the Tortolita Substation, approximately 25 miles northwest of Tucson. From that point, Subroute 4C2c would parallel approximately 90 miles of existing utilities (including about 72 miles of existing electrical transmission lines).

Subroutes 4A, 4B, 4C1, 4C2, 4C2a, 4C2b and 4C3 were considered and evaluated. For discussion of analysis on these routes, refer to the Draft EIS.

In addition to the sub-routes described above, various local alternatives and crossover segments within Route Group 4 were also included in detailed study in the Draft EIS. The BLM, SunZia, and cooperating agencies worked together to identify alternative routes that would conform to existing land use plans. However, in locations where conformance is not likely, the BLM identified draft plan amendments that would bring any of the alternatives routes into conformance with the respective land use plans, as described below. The BLM will identify those plan amendments it intends to implement (as proposed plan amendments) in the Final EIS.

The following land use plan amendments may be necessary to bring the SunZia Southwest Transmission Line Project into conformance with applicable BLM RMPs. Prospective plan amendments will comply with applicable Federal laws and regulations and apply only to Federal lands and mineral estate administered by the BLM. Plan amendment alternatives were considered, which included multiple-use corridors of varying widths. The BLM preferred alternative is to amend the RMPs' existing visual resource management (VRM) decisions as well as ROW avoidance areas as described in the Draft EIS. The affected RMPs include:

• Socorro RMP (2010), Socorro Field Office: Amendments may be needed for modifications to existing VRM decisions and/or to ROW avoidance area decisions (BLM preferred alternative and other alternatives in Route Group 1).

• Mimbres RMP (1993), Las Cruces District Office: Amendments may be needed for modifications to existing VRM decisions and/or to ROW avoidance area decisions (BLM preferred alternative in Route group 3).

• Safford District RMP (1991), Safford Field Office (Gila District): An amendment may be needed for modifications to existing VRM decisions and/or ROW avoidance area decisions (only alternative Subroute 4C1 in Route Group 4 would require a plan amendment, although this alternative is not the BLM preferred alternative).

The Draft EIS analyzes the environmental consequences of a no action alternative, the proposed action, segment and design alternatives, and land use plan amendments. For this EIS, the no action alternative means that the BLM would not grant SunZia a ROW for the construction and operation of the proposed Project and would not amend any land use plans. The Project facilities, including transmission lines and substations, would not be built and existing land uses and present activities in the Project study area would continue. This alternative does not consider the potential for additional actions that could occur depending on the denial of the proposed action or alternatives.

The BLM will use and coordinate the NEPA commenting process to satisfy the public involvement process for Section 106 of the National Historic Preservation Act (16 U.S.C. 470f) as provided for in 36 CFR 800.2(d)(3). Ongoing tribal consultations will continue to be conducted in accordance with policy and tribal concerns, and any impacts on Indian trust assets will be given due consideration. Federal, State, and local agencies, along with other stakeholders that may be interested or affected by the BLM's decision on this Project, are invited to comment on the draft.

Copies of the Draft EIS have been sent to affected Federal, State, and local governments, public libraries in the Project area, and to interested parties that previously requested a copy. The Draft EIS and supporting documents will be available electronically on the following BLM Project Web site: www.blm.gov/nm/sunzia.

Copies of the Draft EIS are available for public inspection during normal business hours at the following locations:

• Bureau of Land Management, Las Cruces District Office, 1800 Marquess Street, Las Cruces, NM 88005-3370

• Bureau of Land Management, Roswell Field Office, 2909 West Second Street, Roswell, NM 88201-2019

• Bureau of Land Management, Socorro Field Office, 901 South Highway 85, Socorro, NM 87801-4168

• Bureau of Land Management, Rio Puerco Field Office, 435 Montano Road NE., Albuquerque, NM 87107-4935

• Bureau of Land Management, Tucson Field Office, 3201 East Universal Way, Tucson, AZ 85756

• Bureau of Land Management, Safford Field Office, 711 14th Avenue, Safford, AZ 85546-3337

• Bureau of Land Management, Gila District Office, 1763 Paseo San Luis, Sierra Vista, AZ 85635-4611

• Bureau of Land Management, New Mexico State Office, 301 Dinosaur Trail, Santa Fe, NM 87508-1560

• Bureau of Land Management, Arizona State Office, One North Central Avenue, Phoenix, AZ 85004-4427

• Arizona State Land Department (ASLD), 1616 West Adams, Phoenix, AZ 85007-2614

• Arizona Game & Fish Department (AZGFD), 5000 West Carefree Highway, Phoenix, AZ 85086-5000

• New Mexico State Land Office (NMSLO), 310 Old Santa Fe Trail, Santa Fe, NM 87504-1148

• U.S. Army Corps of Engineers (USACE), Regulatory Division, 4101 Jefferson Plaza NE., Albuquerque, NM 87109-3435

• U.S. Fish & Wildlife Service (USFWS), 500 Gold Avenue SW., Albuquerque, NM 87102-3118

A limited number of copies of the document will be available. To request a copy, contact Adrian Garcia, BLM Project Manager, BLM New Mexico State Office, 301 Dinosaur Trail, Santa Fe, NM 87508-1560.

Please note that public comments and information submitted including names, street addresses, and email addresses of persons who submit comments will be available for public review and disclosure at the above address during regular business hours (8 a.m. to 4 p.m.), Monday through Friday, except holidays.

Before including your address, phone number, email address, or any other personal identifying information in your comment, please be advised that your entire comment, including your personal identifying information, may be publically available at any time. While you may ask us to withhold this information from public review, we cannot guarantee that we will be able to do so.

Felicia J. Probert,
Acting State Director, New Mexico.

[FR Doc. 2012-12978 Filed 5-25-12; 8:45 am]

BILLING CODE 4310-FB-P